SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before May 19, 2023.

ADDRESSES: Send all comments to Paul Kirwan, Financial Analyst, Office of Credit Risk Management, Small Business Administration, Washington, DC 20416.

FOR FURTHER INFORMATION CONTACT: Paul Kirwans, Office of Credit Risk Management, Office of Financial Assistance, paul.kirwan@sba.gov 202-205-7261, or Curtis B. Rich, Agency Clearance Officer, 202-202-7030, curtis.rich@sba.gov;

SUPPLEMENTARY INFORMATION: This information collection consists of SBA Form 2233 and SBA Form 2234, Parts A, B, and C. A statutory change on December 22, 2015 in the Consolidated Appropriations Act, 2016, made debt refinance a permanent part of the 504 loan program. Slight revisions to the currently approved forms are required to reinstate the debt refinance program requirements that were previously removed due to the expiration of the authority for that program in 2012.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0346.

Title: PCLP Quarterly Loan Loss Reserve Report and PCLP Guarantee Request.

Description of Respondents:

Form Number: SBA Form 2233.

Total Estimated Annual Responses: 20.

Total Estimated Annual Hour Burden: 30.

Curtis Rich,
Agency Clearance Officer.

[FR Doc. 2023-05582 Filed 3-17-23; 8:45 am]

BILLING CODE 8026-09-P